DEPARTMENT OF ENERGY

Federal Energy Regulatory Commission

[Project No. 14675-000]

Siting Renewables, LLC; Notice of Preliminary Permit Application Accepted for Filing and Soliciting Comments, Motions To Intervene, and Competing Applications

On April 9, 2015, Siting Renewables, LLC, filed an application for a preliminary permit, pursuant to section 4(f) of the Federal Power Act (FPA), proposing to study the feasibility of a hydropower project to be located at the existing Chain Dam on the Lehigh River, near the City of Easton, Northampton County, Pennsylvania. The sole purpose of a preliminary permit, if issued, is to grant the permit holder priority to file a license application during the permit term. A preliminary permit does not authorize the permit holder to perform any land-disturbing activities or otherwise enter upon lands or waters owned by others without the owners' express permission.

The proposed Chain Dam Hydroelectric Project would consist of the following: (1) An existing 20-foot-high concrete gravity dam with a 690-foot-long spillway; (2) an existing impoundment having a surface area of approximately 300 acres and a storage capacity of 1,200 acre-feet at an elevation of 190 feet mean sea level (msl); (2) three channels, each with a very low head (VLH) 500-kilowatt (kW) turbine-generator unit, with a maximum generating capacity of 1,500 kW, with a maximum hydraulic capacity of 2,300 cubic feet per second under a net head of 13.5 feet, (3) three new, heavy flotsam racks; (4) a crest-mounted walkway carrying hydraulic and electrical conduits from the VLH turbines to a new powerhouse; and (5) a 280-foot-long 12.42/7.2 kilovolt primary transmission line. The estimated annual generation of the proposed project would be 7,880,000 kilowatt-hours.

Applicant Contact: Mr. Ralph J. Jones, Siting Renewables, LLC, 1800 Rt. 34, Suite 101, Wall, NJ 07719; phone: (855) 946-7652.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14675-000.

More information about this project, including a copy of the application, can be viewed or printed on the “eLibrary” link of the Commission's Web site at http://www.ferc.gov/docs-filing/elibrary.asp. Enter the docket number (P-14675) in the docket number field to access the document. For assistance, contact FERC Online Support.

Dated: July 14, 2015.
Kimberly D. Bose,
Secretary.

[FR Doc. 2015-17790 Filed 7-20-15; 8:45 am]

BILLING CODE 6717-01-P